DEPARTMENT OF AGRICULTURE

Forest Service

Comprehensive River Management Plan for the Red Wild and Scenic River on Daniel Boone National Forest, Forest Service, Menifee, Wolfe and Powell Counties, Kentucky

AGENCY: Forest Service, USDA.

ACTION: Notice of availability.

SUMMARY: In accordance with Section 3(d)(1) of the Wild and Scenic Rivers Act, the USDA Forest Service announces the completion and availability of a comprehensive river management plan (CRMP) for the Red Wild and Scenic River. A 19.4 mile segment of the Red River was designated by Congress in the Red River Designation Act of 1993, as a national wild and scenic river and managed by the Forest Service.

FOR FURTHER INFORMATION CONTACT: Information may be obtained by contacting Jonathan Kazmierski, Cumberland District Ranger, 2375 KY 801 South, Morehead, KY 40351, 606-784-6428, ext. 100, or at jon.kazmierski@usda.gov.

Individuals who use telecommunication devices for the deaf (TDD) may call the Federal Relay Service (FRS) at 1-800-877-8339, 24 hours a day, every day of the year, including holidays.

SUPPLEMENTARY INFORMATION: On September 7, 2022, the Daniel Boone National Forest Forest signed a decision notice to adopt the CRMP for Red Wild and Scenic River on National Forest System Lands. The CRMP addresses resource protection, development of lands and facilities, user capacities, and other management practices necessary or desirable to achieve the purposes of the Wild and Scenic Rivers Act. This CRMP was prepared after consultation with Tribes, State and local governments, and interested public. An environmental assessment (EA) was prepared as part of the CRMP development, in compliance with the National Environmental Policy Act and other relevant federal laws and regulations. The EA discloses the direct, indirect, and cumulative environmental effects that would result from adopting the CRMP. The CRMP, EA and decision notice are available for review at: https://www.fs.usda.gov/project/?project=59892. Also, the documents are available at the Daniel Boone National Forest Supervisor's Office, 1700 Bypass Road, Winchester, KY 40391.

Dated: November 7, 2022.
Jacqueline Emanuel,
Acting Associate Deputy Chief, Nationial Forest System.

[FR Doc. 2022-24624 Filed 11-10-22; 8:45 am]

BILLING CODE 3411-15-P